DEPARTMENT OF THE INTERIOR

National Park Service

[NPS-WASO-NAGPRA-NPS0026945; PPWOCRADN0-PCU00RP14.R50000]

Notice of Inventory Completion: Department of Anthropology, Southern Methodist University, Dallas, TX

AGENCY: National Park Service, Interior.

ACTION: Notice.

SUMMARY: The Department of Anthropology, Southern Methodist University has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Department of Anthropology, Southern Methodist University. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Department of Anthropology, Southern Methodist University at the address in this notice by January 4, 2019.

ADDRESSES: B. Sunday Eiselt, Department of Anthropology, Southern Methodist University, 3225 Daniel Avenue, Heroy Hall #450, Dallas, TX 75205, telephone (214) 768-2915, email seiselt@smu.edu.

SUPPLEMENTARY INFORMATION: Notice is hereby given in accordance with the Native American Graves Protection and Repatriation Act (NAGPRA), 25 U.S.C. 3003, of the completion of an inventory of human remains under the control of the Department of Anthropology, Southern Methodist University, Dallas, TX. The human remains were removed from the R.A. Watts site, Camp County, TX; the Whiterock Spillway site, Dallas County, TX; and the Lower Rockwall site, Rockwall County, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Department of Anthropology, Southern Methodist University professional staff in consultation with representatives of the Caddo Nation of Oklahoma, and the Wichita and Affiliated Tribes (Wichita, Keechi, Waco & Tawakonie), Oklahoma.

History and Description of the Remains

Sometime in the 1960s, human remains representing, at minimum, one individual were removed from the R.A. Watts site (41CP14) in Camp County, Texas. The individual was excavated by R. L. Turner, an amateur archeologist and private collector. Subsequently (possibly during the 1960s or 1970s when the Department of Anthropology, Southern Methodist University was conducting investigations for the Titus County Fresh Water Supply District No. 1 in Camp County, TX), Turner transferred these human remains to the Department of Anthropology, Southern Methodist University. The burial is labeled Feature 3, Area B. No other information is known about this individual. No known individuals were identified. No associated funerary objects are present.

Archeologists Timothy L. Sullivan, S. Alan Skinner, and Beverly A. Mitchum have dated the major occupation of the R.A. Watts site to the Titus Focus of the Late Caddo Period (A.D. 1400-1600). The final, published report affiliates this site with the ancestral Caddo. The Caddo Nation of Oklahoma claims Camp County, TX as an area of interest.

In December 1940, human remains representing, at minimum, four individuals were removed from the Whiterock Spillway site (41DL83; also known as 18D7-1 and 27A5-19D5) in Dallas County, TX. The site was excavated by two avocational archeologists, Forrest Kirkland and R. King Harris of the Dallas Archeological Society. R. King Harris worked in the Department of Anthropology, Southern Methodist University and, upon his retirement in 1974, he transferred the remains of these individuals to the Department of Anthropology, Southern Methodist University. Burial 1 contained an adult male, 30-40 years old, with possible healed mandibular infarctions. Burial 4 contained an adult of unknown sex, 18-25+ years old, with no skeletal pathology. Burial 5 contained an adult male, 40+ years old, with no skeletal pathology. This individual has dental caries, and has completely lost the cusps of the premolars and molars. Burial 7 contained an adult male, 25+ years old, with no skeletal pathology. This individual has one dental cavity, and has completely lost the cusps of the premolars and molars. No known individuals were identified. No associated funerary objects are present.

Archeologists Mark E. Huff, Jr. and Norman Briggs have dated the Whiterock Spillway site to the Wylie Focus of the Middle to Late Caddo Periods (A.D. 1200-1680). The final, published report affiliates this site with the ancestral Caddo. The Caddo Nation of Oklahoma claims Dallas County, TX, as an area of interest.

In 1965, human remains representing, at minimum, three individuals were removed from the Lower Rockwall Site (41RW1; also known as 27B1-2, RW2) in Rockwall County, TX. The site was excavated by the Department of Anthropology, Southern Methodist University under contract to the National Park Service. The human remains from Burial 1 consist solely of the cranium of a middle-aged female. This grave had been dug into the side of the inward slope of the north rim of a large pit. The skull was found lying on its right side, with the top of the head to the north and the face to the west. Burial 2 contained an adult female, 35-45 years old. This individual lay in a flexed position on the left side, with the head to the west. The head was bent downward with the chin resting on the chest and facing toward the east. The right hand rested on the top of the head, and the left arm was bent across the chest. No description is given for the third individual. No known individuals were identified. No associated funerary objects are present.

Archeologists Dessamae Lorrain and Norma Hoffrichter date the occupation of the Lower Rockwall site between 1000 B.C. and A.D. 1300, i.e. from the Middle/Late Archaic to the Wylie Focus. The final, published report affiliates this site with the ancestral Caddo. The Caddo Nation of Oklahoma claims Rockwall County, TX as an area of interest.

Determinations Made by the Department of Anthropology, Southern Methodist University

Officials of the Department of Anthropology, Southern Methodist University have determined that:

• Pursuant to 25 U.S.C. 3001(9), the human remains described in this notice represent the physical remains of eight individuals of Native American ancestry.

• Pursuant to 25 U.S.C. 3001(2), there is a relationship of shared group identity that can be reasonably traced between the Native American human remains and the Caddo Nation of Oklahoma.

Additional Requestors and Disposition

Lineal descendants or representatives of any Indian Tribe or Native Hawaiian organization not identified in this notice that wish to request transfer of control of these human remains should submit a written request with information in support of the request to B. Sunday Eiselt, Department of Anthropology, Southern Methodist University, 3225 Daniel Avenue, Heroy Hall #450, Dallas, TX 75205, telephone (214) 768-2915, email seiselt@smu.edu, by January 4, 2019. After that date, if no additional requestors have come forward, transfer of control of the human remains to the Caddo Nation of Oklahoma may proceed.

The Department of Anthropology, Southern Methodist University is responsible for notifying the Caddo Nation of Oklahoma, and the Wichita and Affiliated Tribes (Wichita, Keechi, Waco & Tawakonie), Oklahoma that this notice has been published.

Dated: November 7, 2018.
Melanie O'Brien,
Manager, National NAGPRA Program.

[FR Doc. 2018-26436 Filed 12-4-18; 8:45 am]

BILLING CODE 4312-52-P